DEPARTMENT OF TRANSPORTATION

National Highway Traffic Safety Administration

Petition for Exemption From the Vehicle Theft Prevention Standard; Hyundia-Kia America Technical Center, Inc.

AGENCY: National Highway Traffic Safety Administration (NHTSA), Department of Transportation (DOT).

ACTION: Grant of petition for exemption.

SUMMARY: This document grants in full the petition of Hyundai-Kia Motors Corporation (Hyundai) in accordance with 543.9(c)(2) of 49 CFR Part 543, Exemption from the Theft Prevention Standard, for the Hyundai Azera vehicle line beginning with model year (MY) 2008. This petition is granted because the agency has determined that the antitheft device to be placed on the line as standard equipment is likely to be as effective in reducing and deterring motor vehicle theft as compliance with the parts-marking requirements of the Theft Prevention Standard.

DATES: The exemption granted by this notice is effective beginning with model year (MY) 2008.

FOR FURTHER INFORMATION CONTACT: Ms. Rosalind Proctor, Office of International Vehicle, Fuel Economy and Consumer Standards, NHTSA, 1200 New Jersey Avenue, SE., NVS-131, Room W43-302 (4th Floor), Washington, DC 20590. Ms. Proctor's telephone number is (202) 366-4807. Her fax number is (202) 493-0073.

SUPPLEMENTARY INFORMATION: In a petition dated March 2, 2007, Hyundai-Kia America Technical Center, Inc., on behalf of Hyundai-Kia Motors (Hyundai) requested an exemption from the parts-marking requirements of the Theft Prevention Standard (49 CFR Part 541) for the Hyundai Azera vehicle line beginning with MY 2008. The petition requested an exemption from parts-marking pursuant to 49 CFR Part 543, Exemption from Vehicle Theft Prevention Standard, based on the installation of an antitheft device as standard equipment for an entire vehicle line.

Under § 543.5(a), a manufacturer may petition NHTSA to grant an exemption for one of its vehicle lines per year. Hyundai has petitioned the agency to grant an exemption for its Azera vehicle line beginning with MY 2008. In its petition, Hyundai provided a detailed description and diagram of the identity, design, and location of the components of the antitheft device for the Azera vehicle line. Hyundai will install its passive antitheft device as standard equipment on the vehicle line. Features of the antitheft device will include a passive immobilizer consisting of an EMS (engine control unit), SMARTRA (immobilizer unit), an antenna coil and transponder ignition keys. Additionally, the Hyundai Azera will have a standard alarm system which will monitor all the doors, the trunk and the hood of the vehicle. The audible and visual alarms are activated when an unauthorized person attempts to enter or move the vehicle by unauthorized means. Hyundai's submission is considered a complete petition as required by 49 CFR 543.7, in that it meets the general requirements contained in § 543.5 and the specific content requirements of § 543.6.

The antitheft device to be installed on the MY 2008 Hyundai is a transponder-based electronic immobilizer system. Hyundai stated that the EMS carries out the check of the ignition key by a special encryption algorithm which runs in the transponder and in the EMS in parallel. The engine can only be started if the results of the ignition key check and algorithm are equal.

Hyundai stated that the device is automatically activated by removing the key from the ignition switch and locking the vehicle door. In order to arm the device, the key must be removed from the ignition switch, all of the doors and hood must be closed and the driver's door must be locked with the ignition key or all doors must be locked with the keyless entry. When the device is armed, the visual (flashing hazard lamps) and audible (horn sound) alarm system will be triggered if unauthorized entry is attempted through the doors, trunk or the hood. Hyundai stated that the alarm will be operated in three cycles (30 seconds on and 10 seconds off) and if the alarm shuts down, the device will remain armed. The device is disarmed when the driver's door is unlocked with the transponder key or keyless entry.

Hyundai further stated that since its antitheft device has been installed as standard equipment on the Azera line since MY 2006 and that it is the first vehicle line that comprises both an immobilizer and an alarm system as standard equipment for the U.S. market, there is currently no available theft rate data for Hyundai vehicle lines that have been installed with similar devices. However, by supplemental letter dated May 16, 2007, Hyundai submitted further data to support its belief that its device will be at least as effective as comparable devices installed on other vehicle lines previously granted exemptions by the agency.

Hyundai further stated that it believes that the GM Pass-Key and Ford Securilock devices contain components that are functionally and operationally similar to its device. Hyundai also stated that the theft data from the National Crime Information Center (NCIC) show a clear reduction in vehicle thefts after the introduction of the GM and Ford devices. Therefore, Hyundai believes that its device will be at least as effective as those GM and Ford devices that have been installed on lines previously granted exemptions by the agency. Hyundai provided theft rate data for the Chevrolet Camaro and Pontiac Firebird vehicle lines showing a substantial reduction in theft rates comparing the lines between pre- and post-introduction of the Pass-Key device. Hyundai also provided “percent reduction” data for theft rates between pre- and post-production years for the Ford Taurus and Mustang, and Oldsmobile Toronado and Buick Riviera vehicle lines normalized to the three-year average of the Camaro and Firebird pre-introduction data. Hyundai stated that the data shows a dramatic reduction of theft rates due to the introduction of devices substantially similar to the Hyundai immobilizer device. Specifically, the Taurus, Mustang, Riviera and Toronado vehicle lines showed a 63, 70, 80 and 58 percent theft rate reductions respectively, between pre- and post-introduction of immobilizer devices as standard equipment on these vehicle lines.

In addressing the specific content requirements of 543.6, Hyundai provided information on the reliability and durability of its proposed device. To ensure reliability and durability of the device, Hyundai conducted tests based on its own specified standards. Hyundai also provided a detailed list of the tests conducted and believes that the device is reliable and durable since the device complied with its specified requirements for each test.

Based on the evidence submitted by Hyundai, the agency believes that the antitheft device for the Azera vehicle line is likely to be as effective in reducing and deterring motor vehicle theft as compliance with the parts-marking requirements of the Theft Prevention Standard (49 CFR Part 541). Based on the information Hyundai provided about its device, the agency concludes that the device will provide the five types of performance listed in § 543.6(a)(3): promoting activation; attracting attention to the efforts of unauthorized persons to enter or operate a vehicle by means other than a key; preventing defeat or circumvention of the device by unauthorized persons; preventing operation of the vehicle by unauthorized entrants; and ensuring the reliability and durability of the device.

As required by 49 U.S.C. 33106 and 49 CFR Part 543.6(a)(4) and (5), the agency finds that Hyundai has provided adequate reasons for its belief that the antitheft device, will reduce and deter theft.

For the foregoing reasons, the agency hereby grants in full Hyundai's petition for exemption for the Azera vehicle line from the parts-marking requirements of 49 CFR Part 541. The agency notes that 49 CFR Part 541, Appendix A-1, identifies those lines that are exempted from the Theft Prevention Standard for a given model year. 49 CFR Part 543.7(f) contains publication requirements incident to the disposition of all Part 543 petitions. Advanced listing, including the release of future product nameplates, the beginning model year for which the petition is granted and a general description of the antitheft device is necessary in order to notify law enforcement agencies of new vehicle lines exempted from the parts-marking requirements of the Theft Prevention Standard.

If Hyundai decides not to use the exemption for this line, it must formally notify the agency. If such a decision is made, the line must be fully marked according to the requirements under 49 CFR Parts 541.5 and 541.6 (marking of major component parts and replacement parts).

NHTSA notes that if Hyundai wishes in the future to modify the device on which this exemption is based, the company may have to submit a petition to modify the exemption. Part 543.7(d) states that a Part 543 exemption applies only to vehicles that belong to a line exempted under this part and equipped with the anti-theft device on which the line's exemption is based. Further, Part 543.9(c)(2) provides for the submission of petitions “to modify an exemption to permit the use of an antitheft device similar to but differing from the one specified in that exemption.”

The agency wishes to minimize the administrative burden that Part 543.9(c)(2) could place on exempted vehicle manufacturers and itself. The agency did not intend in drafting Part 543 to require the submission of a modification petition for every change to the components or design of an antitheft device. The significance of many such changes could be de minimis. Therefore, NHTSA suggests that if the manufacturer contemplates making any changes, the effects of which might be characterized as de minimis, it should consult the agency before preparing and submitting a petition to modify.

Authority: 49 U.S.C. 33106; delegation of authority at 49 CFR 1.50.

Issued on: July 12, 2007.
Stephen R. Kratzke,
Associate Administrator for Rulemaking.

[FR Doc. E7-13948 Filed 7-18-07; 8:45 am]

BILLING CODE 4910-59-P